DEPARTMENT OF HEALTH AND HUMAN SERVICES

Administration for Children and Families

Statement of Organization, Functions and Delegation of Authority

Notice is hereby given that I have delegated to the Director, Office of Head Start, the following authority vested in me by the Secretary of Health and Human Services in a memorandum dated August 20, 1991.

(a) Authority Delegated.

Authority to administer the Head Start and Early Head Start programs, authorized by the Head Start Act, 42 U.S.C. 9801 et seq., including authority to conduct reviews of Head Start and Early Head Start grantees pursuant to sections 641A(c) and 645A(b)(9) of the Head Start Act, 42 U.S.C. 9836A and 9840A, and to determine the existence of deficiencies, as defined in 45 CFR 1304.3(a)(6), and other instances of noncompliance, to make determinations of whether deficiencies and other instances of noncompliance have been corrected by grantees pursuant to sections 641A(d) and 645A(b)(9) of the Head Start Act, and 45 CFR part 1304 and to terminate or suspend funding or deny refunding to Head Start and Early Head Start grantees pursuant to Section 646 of the Head Start Act, 42 U.S.C. 9841, and 45 CFR parts 1303 and 1304.

(b) Limitations and Conditions.

1. This delegation shall be exercised under the Department's existing policies on delegations and regulations.

2. This delegation shall be exercised under financial and administrative requirements applicable to all Administration for Children and Families authorities. The approval or disapproval of grant applications, the making of grant awards, the waiver of the non-Federal share under 42 U.S.C. 9835(b), the waiver of fifteen percent administrative cost limitation under 42 U.S.C. 9839(b), and the approval of interim grantees under 42 U.S.C. 9836(e) require concurrence of the grants officer. The approval or disapproval of contract applications and awards are subject to contracting officer processes in accordance with Federal Acquisition Regulations.

3. Any redelegation shall be in writing and prompt notification must be provided to all affected managers, supervisors, and other personnel.

(c) Effect on Existing Delegations.

This delegation supersedes all previous delegations of authority involving the Head Start Act to officials within the Administration on Children, Youth and Families.

(d) Effective Date.

This delegation was effective on July 24, 2006.

I hereby affirm and ratify any actions taken by the Director, Office of Head Start, which involved the exercise of the authority delegated herein prior to the effective date of this delegation.

Dated: August 7, 2006.
Wade F. Horn,
Assistant Secretary for Children and Families.

[FR Doc. E6-13333 Filed 8-14-06; 8:45 am]

BILLING CODE 4184-01-P